COMMITTEE FOR PURCHASE FROM PEOPLE WHO ARE BLIND OR SEVERELY DISABLED

Procurement List

AGENCY: Committee for Purchase From People Who Are Blind or Severely Disabled.

ACTION: Additions to Procurement List.

SUMMARY: This action adds to the Procurement List products and services to be furnished by nonprofit agencies employing persons who are blind or have other severe disabilities.

DATES: Effective Date: September 24, 2006.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION: On June 23, 2006 and June 30, 2006, the Committee for Purchase From People Who Are Blind or Severely Disabled published notice (71 FR 36061 and 37536-37537 respectively) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/NSNs: Coat, Airman's Battle Uniform, Men's (ABU).

8415-01-536-4578—Size 42 X-Short.

8415-01-536-4224—Size 36 Regular.

8415-01-536-4188—Size 34 Regular.

8415-01-536-4182—Size 34 X-Short.

8415-01-536-4193—Size 36 X-Short.

8415-01-536-4192—Size 34 X-Long.

8415-00-NIB-0493—Size 48 X-Long.

8415-01-536-4227—Size 36 Long.

8415-01-536-4585—Size 42 X-Long.

8415-01-536-4583—Size 42 Regular.

8415-00-NIB-0492—Size 48 X-Short.

8415-00-NIB-0490—Size 44 X-Short.

8415-01-536-4577—Size 40 X-Long.

8415-01-536-4640—Size 48 Regular.

8415-01-536-4682—Size 50 Regular.

8415-01-536-4241—Size 38 Short.

8415-01-536-4239—Size 38 X-Short.

8415-01-536-4593—Size 46 Short.

8415-01-536-4592—Size 44 X-Long.

8415-01-536-4588—Size 50 X-Short.

8415-01-536-4586—Size 44 Short.

8415-01-536-4584—Size 42 Long.

8415-01-536-4574—Size 40 Regular.

8415-01-535-4170—Size 32 Short.

8415-01-536-4712—Size 50 Long.

8415-01-536-4639—Size 48 Short.

8415-00-NIB-0494—Size 50 X-Long.

8415-01-536-4651—Size 48 Long.

8415-01-536-4367—Size 38 Regular.

8415-01-536-4369—Size 38 Long.

8415-01-536-4674—Size 50 Short.

8415-01-536-4576—Size 40 Long.

8415-01-536-4606—Size 46 X-Long.

8415-00-NIB-0489—Size 32 X-Long.

8415-01-536-4596—Size 46 Regular.

8415-01-536-4600—Size 46 Long.

8415-01-536-4197—Size 36 Short.

8415-01-536-4573—Size 40 Short.

8415-01-536-4581—Size 42 Short.

8415-01-536-4178—Size 32 Regular.

8415-01-536-4237—Size 36 X-Long.

8415-01-536-4591—Size 44 Long.

8415-01-536-4590—Size 44 Regular.

8415-01-536-4180—Size 32 Long.

8415-01-536-4189—Size 34 Long.

8415-01-536-4134—Size 32 X-Short.

8415-01-536-4184—Size 34 Short.

8415-00-NIB-0491—Size 46 X-Short.

8415-01-536-4572—Size 40 X-Short.

8415-01-536-4571—Size 38 X-Long.

Product/NSNs: Coat, Airman's Battle Uniform, Women's, (ABU).

8410-01-536-3760—Size 6 Short

8410-01-536-3000—Size 6 X-Short

8410-01-536-2994—Size 4 Regular

8410-01-536-3763—Size 6 Regular

8410-01-536-2980—Size 4 X-Short

8410-01-536-2977—Size 2 Regular

8410-01-536-2974—Size 2 Short

8410-00-NIB-0005—Size 20 X-Short

8410-00-NIB-0003—Size 4 Long

8410-01-536-2982—Size 4 Short

8410-00-NIB-0002—Size 2 Long

8410-00-NIB-0004—Size 18 X-Short

8410-00-NIB-0006—Size 20 Short

8410-01-NIB-0007—Size 20 Long

8410-01-536-3825—Size 20 Regular

8410-01-536-3819—Size 18 Regular

8410-01-536-3822—Size 18 Long

8410-01-536-3816—Size 18 Short

8410-01-536-3814—Size 16 Long

8410-01-536-3812—Size 16 Regular

8410-01-536-3808—Size 16 Short

8410-01-536-3807—Size 16 X-Short

8410-01-536-3805—Size 14 Long

8410-01-536-3804—Size 14 Regular

8410-01-536-3803—Size 14 Short

8410-01-536-3800—Size 14 X-Short

8410-01-536-3799—Size 12 Long

8410-01-536-3797—Size 12 Regular

8410-01-536-3795—Size 12 Short

8410-01-536-3793—Size 12 X-Short

8410-01-536-3792—Size 10 Long

8410-01-536-3789—Size 10 Regular

8410-01-536-3787—Size 10 Short

8410-01-536-3784—Size 10 X-Short

8410-01-536-3782—Size 8 Long

8410-01-536-3779—Size 6 Long

8410-01-536-3776—Size 8 Regular

8410-01-536-3772—Size 8 Short

8410-01-536-3769—Size 8 X-Short

NPA: Winston-Salem Industries for the Blind, Winston-Salem, NC, (At its facility in Mayaguez, PR).

NPA: Blind Industries and Services of Maryland, Baltimore, MD, (At its facility in Salisbury, MD).

Coverage: The requirement being added to the Procurement List is a quantity of no more than 400,000 units of any combination of the above NSNs for Coat, Airman's Battle Uniform, Men's or Coat, Airman's Battle Uniform, Women's.

Product/NSNs: Trousers, Airman's Battle Uniform, Men's (ABU).

8415-01-536-4121—Size 46 Long

8415-01-536-4111—Size 46 Regular

8415-01-536-4103—Size 44 Short

8415-01-536-4102—Size 44 Regular

8415-01-536-4088—Size 42 Long

8415-01-536-4077—Size 42 Short

8415-01-536-4075—Size 40 X-Long

8415-01-536-4073—Size 40 Long

8415-01-536-4067—Size 40 Short

8415-01-536-4027—Size 38 X-Long

8415-01-536-3935—Size 38 Long

8415-01-536-3920—Size 38 Short

8415-01-536-3916—Size 38 X-Short

8415-01-536-3912—Size 36 X-Long

8415-01-536-3905—Size 36 Long

8415-01-536-3903—Size 36 Regular

8415-01-536-3893—Size 36 Short

8415-01-536-3890—Size 40 X-Short

8415-01-536-3874—Size 34 X-Long

8415-01-536-3869—Size 34 Long

8415-01-536-3855—Size 34 Regular

8415-01-536-3849—Size 34 Short

8415-01-536-3846—Size 34 X-Short

8415-01-536-3844—Size 32 X-Long

8415-01-536-3836—Size 32 Long

8415-01-536-3833—Size 32 Regular

8415-01-536-3830—Size 32 Short

8415-01-536-3880—Size 36 X-Short

8415-01-536-3826—Size 32 X-Short

8415-01-536-3823—Size 30 X-Long

8415-01-536-3821—Size 30 Long

8415-01-536-3817—Size 30 Regular

8415-01-536-3809—Size 30 X-Short

8415-01-536-3794—Size 30 Short

8415-01-536-3791—Size 28 X-Long

8415-01-536-3927—Size 38 Regular

8415-01-536-3777—Size 28 Long

8415-01-536-3774—Size 28 Regular

8415-01-536-3759—Size 28 Short

8415-01-536-4071—Size 40 Regular

8415-01-536-3758—Size 28 X-Short

8415-00-NIB-0502—Size 44 X-Long

8415-00-NIB-0501—Size 46 X-Long

8415-01-536-4081—Size 42 Regular

8415-00-NIB-0500—Size 46 Short

8415-00-NIB-0499—Size 46 X-Short

8415-00-NIB-0498—Size 44 Long

8415-00-NIB-0497—Size 44 X-Short

8415-00-NIB-0496—Size 42 X-Long

8415-00-NIB-0495—Size 42 X-Short

Product/NSNs: Trousers, Airman's Battle Uniform, Women's, (ABU).

8410-01-536-2748—Size 12 Short

8410-01-536-2746—Size 12 X-Short

8410-01-536-2744—Size 10 Long

8410-01-536-2740—Size 10 Short

8410-01-536-2739—Size 10 X-Short

8410-01-536-2736—Size 8 Long

8410-01-536-2725—Size 8 Short

8410-01-536-2723—Size 8 X-Short

8410-01-536-2721—Size 6 Long

8410-01-536-2720—Size 6 Regular

8410-01-536-2719—Size 6 Short

8410-01-536-2718—Size 6 X-Short

8410-01-536-2715—Size 4 Regular

8410-01-536-2714—Size 4 X-Short

8410-01-536-2711—Size 2 Regular

8410-01-536-2709—Size 2 Short

8410-00-NIB-0017—Size 22 Short

8410-01-536-2734—Size 8 Regular

8410-00-NIB-0016—Size 22 X-Short

8410-00-NIB-0015—Size 4 Long

8410-00-NIB-0012—Size 20 Short

8410-01-536-2742—Size 10 Regular

8410-00-NIB-0011—Size 20 X-Short

8410-00-NIB-0010—Size 18 X-Short

8410-00-NIB-0009—Size 2 Long

8410-01-536-2749—Size 12 Regular

8410-00-NIB-0008—Size 2 X-Short

8410-01-NIB-0014—Size 22 Long

8410-01-536-2785—Size 22 Regular

8410-01-536-2783—Size 20 Long

8410-01-536-2780—Size 20 Regular

8410-01-536-2778—Size 18 Long

8410-01-536-2774—Size 18 Regular

8410-01-536-2773—Size 18 Short

8410-01-536-2771—Size 16 Long

8410-01-536-2770—Size 16 Regular

8410-01-536-2766—Size 16 Short

8410-01-536-2765—Size 16 X-Short

8410-01-536-2761—Size 14 Long

8410-01-536-2760—Size 14 Regular

8410-01-536-2756—Size 14 Short

8410-01-536-2801—Size 4 Short

8410-01-536-2754—Size 14 X-Short

8410-01-536-2752—Size 12 Long

NPA: Raleigh Lions Clinic for the Blind, Inc., Raleigh, NC.

NPA: LC Industries, Inc., Durham, NC (At its facility in Louisville, KY).

Coverage: The requirement being added to the Procurement List is a quantity of no more than 300,000 units of any combination of the above NSNs for Trousers, Airman's Battle Uniform, Men's or Trousers, Airman's Battle Uniform, Women's.

Contracting Activity: Defense Supply Center Philadelphia, Philadelphia, PA.

Services

Service Type/Location: Administrative Support, USDA Forest Service, 4931 Broad River Road, Columbia, South Carolina.

NPA: Goodworks Service Corporation, Greenville, SC.

Contract Activity: USDA, Forest Service, Region 8, Columbia, SC.

Service Type/Location: Custodial Services, U.S Department of Agriculture, 6300 NW 36th Street, Miami, Florida.

NPA: Goodwill Industries of South Florida, Inc., Miami, FL.

Contract Activity: USDA, Animal & Plant Health Inspection Service-PFQ, Minneapolis, MN.

This action does not affect current contracts awarded prior to the effective date of this addition or options that may be exercised under those contracts.

Sheryl D. Kennerly,
Director, Information Management.

[FR Doc. E6-14105 Filed 8-24-06; 8:45 am]

BILLING CODE 6353-01-P